DEPARTMENT OF THE INTERIOR

National Park Service

[NPS-WASO-NAGPRA-NPS0032767; PPWOCRADN0-PCU00RP14.R50000]

Notice of Inventory Completion: Culver-Stockton College, Canton, MO

AGENCY: National Park Service, Interior.

ACTION: Notice.

SUMMARY: Culver-Stockton College has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Culver-Stockton College. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Culver-Stockton College at the address in this notice by November 18, 2021.

FOR FURTHER INFORMATION CONTACT: C. Patrick Hotle, Culver-Stockton College, No. 1 College Hill, Canton, MO 63435, telephone (573) 288-6394, email photle@culver.edu.

SUPPLEMENTARY INFORMATION: Notice is here given in accordance with the Native American Graves Protection and Repatriation Act (NAGPRA), 25 U.S.C. 3003, of the completion of an inventory of human remains and associated funerary objects under the control of Culver-Stockton College, Canton, MO. The human remains and associated funerary objects were removed from Clarksville, Pike County, MO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Culver-Stockton College's professional staff in consultation with representatives of The Osage Nation [previously listed as Osage Tribe].

History and Description of the Remains

In the fall of 1971 and spring of 1972, human remains representing, at minimum, 10 individuals were removed from the Clarksville Mound Group site in Pike County, MO, by John Sperry Jr., Archeology Professor of History and Anthropology, as part of a course offered by Culver-Stockton College entitled Field Archaeology I and II. The items have been in the possession of the College since their removal from the site. The human remains belong to 10 individuals of unknown age and sex. No known individuals were identified. The three associated funerary objects are one arrowhead and two lots of small snail shells.

The human remains were determined to be Native American through physical examination and archeological provenience documentation. Cultural affiliation of the human remains and associated funerary objects from the Clarksville Mound Group site with The Osage Nation has been determined based on geographical, historical, oral traditional, and archeological information.

Determinations Made by Culver-Stockton College

Officials of Culver-Stockton College have determined that:

• Pursuant to 25 U.S.C. 3001(9), the human remains described in this notice represent the physical remains of 10 individuals of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and The Osage Nation [previously listed as Osage Tribe].

Additional Requestors and Disposition

Lineal descendants or representatives of any Indian Tribe or Native Hawaiian organization not identified in this notice that wish to request transfer of control of these human remains and associated funerary objects should submit a written request with information in support of the request to C. Patrick Hotle, Culver-Stockton College, No. 1 College Hill, Canton, MO 63435, telephone (573) 288-6394, email photle@culver.edu, by November 18, 2021. After that date, if no additional requestors have come forward, transfer of control of the human remains and associated funerary objects to The Osage Nation [previously listed as Osage Tribe] may proceed.

Culver-Stockton College is responsible for notifying The Osage Nation [previously listed as Osage Tribe] that this notice has been published.

Dated: October 6, 2021.
Melanie O'Brien,
Manager, National NAGPRA Program.

[FR Doc. 2021-22740 Filed 10-18-21; 8:45 am]

BILLING CODE 4312-52-P